DEPARTMENT OF LABOR

Employment and Training Administration

[TA-W-72,649]

Contech Castings, LLC, Including Workers Whose Unemployment Insurance (UI) Wages Are Reported Through Contech Us LLC, Including On-Site Leased Workers From On Staff USA, Dowagiac, MI; Amended Certification Regarding Eligibility To Apply for Worker Adjustment Assistance

In accordance with Section 223 of the Trade Act of 1974, as amended (“Act”), 19 U.S.C. 2273, the Department of Labor issued a Certification of Eligibility to Apply for Worker Adjustment Assistance on February 23, 2010, applicable to workers of Contech Castings, LLC, including on-site leased workers from On Staff USA, Dowagiac, Michigan. The notice will soon be published in the Federal Register.

At the request of the State Agency, the Department reviewed the certification for workers of the subject firm. The workers are engaged in activities related to the production of aluminum and magnesium die casted component parts for automobiles.

New information shows that the assets of Contech US LLC were purchased in June 2009 and a new company, Contech Casting LLC was formed. Some workers separated from employment at the subject firm had their wages reported under a separate unemployment insurance (UI) tax account under the name of Contech US LLC.

Accordingly, the Department is amending this certification to properly reflect this matter.

The intent of the Department's certification is to include all workers of the subject firm who were adversely affected by increased imports of aluminum and magnesium die casted component parts for automobiles.

The amended notice applicable to TA-W-72,649 is hereby issued as follows:

All workers of Contech Castings, LLC, including workers whose UI wages are reported through Contech US LLC, including on-site leased workers from On Staff USA, Dowagiac, Michigan, who became totally or partially separated from employment on or after October 19, 2008, through February 23, 2012, and all workers in the group threatened with total or partial separation from employment on date of certification through two years from the date of certification, are eligible to apply for adjustment assistance under Chapter 2 of Title II of the Trade Act of 1974, as amended.

Signed in Washington, DC, this 6th day of April 2010.
Elliott S. Kushner
Certifying Officer, Division of Trade Adjustment Assistance.

[FR Doc. 2010-8893 Filed 4-16-10; 8:45 am]

BILLING CODE 4510-FN-P